DEPARTMENT OF DEFENSE

[OMB Control Number 0704-0332]

Information Collection Requirement; Defense Federal Acquisition Regulation Supplement; DoD Pilot Mentor-Protege Program

AGENCY: Department of Defense (DoD).

ACTION: Notice and request for comments regarding a proposed revision of an approved information collection requirement.

SUMMARY: In compliance with Section 3606(c)(2)(A) of the Paperwork Reduction Act of 1995 (44 U.S.C. Chapter 35), DoD announces the proposed revision of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection under OMB Control Numbers 0704-0332 (through June 30, 2001) and 0704-0412 (through July 31, 2003). This revision combines the requirements approved under OMB Control Numbers 0704-0332 and 0704-0412. DoD proposed that OMB extend its approval for use through June 30, 2004.

DATES: DoD will consider all comments received by December 26, 2000.

ADDRESSES: Interested parties should submit written comments and recommendations on the proposed information collection to: Defense Acquisition Regulations Council, Attn: Mrs. Susan L. Schneider, OUDS (AT&L) DP (DAR), IMD 3C132, 3062 Defense Pentagon, Washington, DC 20301-3062. Telefax (703) 602-0350.

E-mail comments submitted via the Internet should be addressed to: dfars@acq.osd.mil.

Please cite OMB Control Number 0704-0332 in all correspondence related to this issue. E-mail comments should cite OMB Control Number 0704-0332 in the subject line.

FOR FURTHER INFORMATION CONTACT: Mrs. Susan L. Schneider, at (703) 602-0326. The information collection requirements addressed in this notice are available electronically via the Internet at: http://www.acq.osd.mil/dp/dars/dfars.html. Paper copies are available from Mrs. Susan L. Schneider, OUSD (AT&L) DP (DAR), IMD 3C231, 3062 Defense Pentagon, Washington, DC 20301-3062.

SUPPLEMENTARY INFORMATION: Title and OMB Number: Defense Federal Acquisition Regulation Supplement (DFARS) Appendix I, DoD Pilot Mentor-Protege Program; OMB Control Number 0704-0332.

Needs and Uses: DoD needs this information to evaluate whether the purposes of the DoD Pilot Mentor-Protege Program have been met. The purposes of the Program are to: (1) Provide incentives to major DoD contractors to assist protege firms in enhancing their capabilities to satisfy contract and subcontract requirements; (2) increase the overall participation of protege firms as subcontractors and suppliers; and (3) foster the establishment of long-term business relationships between protege firms and major DoD contractors. This Program implements Section 831 of the National Defense Authorization Act for Fiscal Year 1991 (Public Law 101-510) and Section 811 of the National Defense Authorization Act for Fiscal Year 2000 (Public Law 106-65) (10 U.S.C. 2302 note). Participation in the Program is voluntary.

Affected Public: Businesses or other for-profit organizations.

Annual Burden Hours: 931 (includes 538 recordkeeping hours).

Number of Respondents: 269.

Responses Per Respondent: 3.

Annual Responses: 393.

Average Burden Per Response: 1 hour reporting; 3.7 hours recordkeeping.

Frequency: Semiannually (mentor); Annually (protege).

Summary of Information Collection

DFARS Appendix I-111(a) requires mentor firms to report on the progress made under active mentor-protege agreements semiannually for the periods ending March 31st and September 30th. The September 30th report must address the entire fiscal year. Reports must include—

(1) Data on performance under the mentor-protege agreement, including dollars obligated, expenditures, credit taken under the Program, small disadvantaged business (SDB) subcontract awards under DoD contracts, developmental assistance provided, impact of the agreement, and progress of the agreement; and

(2) For each contract where developmental assistance was credited toward an SDB subcontracting goal, a copy of Standard Form 294, Subcontracting Report for Individual Contracts, with a statement identifying—

(i) The amount of dollars credited to the SDB subcontracting goal as a result of developmental assistance provided to protege firms under the Program; and

(ii) The number and dollar value of subcontracts awarded to the protege firm(s), broken out per protege.

DFARS Appendix I-111(b) requires the mentor firm and the protege firm to annually provide data on the progress made by the protege firm in employment, revenues, and participation in DoD contracts during each fiscal year of the Program participation term and each of the 2 fiscal years following the expiration of the Program participation term. During the Program participation term, the firms may provide this data as part of the mentor report required by I-111(a) for the period ending September 30th.

Michele P. Peterson,
Executive Editor, Defense Acquisition Regulations Council.

[FR Doc. 00-27248 Filed 10-24-00; 8:45 am]

BILLING CODE 5000-04-M